DEPARTMENT OF COMMERCE

National Oceanic and Atmospheric Administration

Establishing an Advisory Council Pursuant to the National Marine Sanctuaries Act and Solicitation for Applications for the Chumash Heritage National Marine Sanctuary Advisory Council

AGENCY: Office of National Marine Sanctuaries (ONMS), National Ocean Service, National Oceanic and Atmospheric Administration (NOAA), Department of Commerce.

ACTION: Notice of solicitation.

SUMMARY: Notice is hereby given that NOAA is establishing a national marine sanctuary advisory council for the Chumash Heritage National Marine Sanctuary (CHNMS), the designation of which became effective on November 30, 2024. The council will provide guidance to ONMS and will serve as liaisons with constituents and community groups. As a result, ONMS is adding the new council to the list of established national marine sanctuary advisory councils. ONMS solicits applications to fill council seats on an as needed basis and is seeking applicants for seats on the CHNMS Advisory Council. This notice contains web page links and contact information for CHNMS and application materials to apply for the newly established advisory council.

DATES: Applications for membership on the CHNMS Advisory Council need to be postmarked or received by Friday March 7, 2025.

ADDRESSES: For further information contact: Nicole Capps, NOAA ONMS West Coast Region Program Analyst, 99 Pacific Street, Building 100F, Monterey, CA 93940; 831-647-6451; nicole.capps@noaa.gov.

SUPPLEMENTARY INFORMATION:

I. Background

Section 315 of the National Marine Sanctuaries Act (NMSA) (16 U.S.C. 1445a) authorizes the Secretary of Commerce to establish advisory councils to advise and make recommendations regarding the designation and management of national marine sanctuaries. ONMS is establishing a new sanctuary advisory council for CHNMS to serve as a liaison with the local community and to provide guidance and advice to ONMS regarding the sanctuary management plan. The advisory council for CHNMS was not established when ONMS published its annual announcement on May 24, 2024 that was advertising to fill vacant seats on the other 18 councils (89 FR 45854). Therefore, ONMS is adding the new advisory council to the list of sites with open vacancies and announcing that it is soliciting applications to fill the seats of this council. Applications are due Friday March 7, 2025.

In the following SUPPLEMENTARY INFORMATION section, NOAA provides details regarding ONMS, the role of advisory councils, and contact information for CHNMS.

II. Office of National Marine Sanctuaries (ONMS)

ONMS serves as the trustee for a network of underwater parks encompassing more than 629,000 square miles of marine and Great Lakes waters from Washington State to the Florida Keys, and from Lake Huron to American Samoa. The network includes a system of 17 national marine sanctuaries and the Papahānaumokuākea and Rose Atoll marine national monuments. National marine sanctuaries protect our nation's most vital coastal and marine natural and cultural resources, and through active research, management, and public engagement, sustain healthy environments that are the foundation for thriving communities and stable economies.

One of the many ways ONMS ensures public participation in the designation and management of national marine sanctuaries is through the formation of advisory councils. Advisory councils are community-based groups established to provide advice and recommendations to ONMS on issues including management, science, service, and stewardship, as well as to serve as liaisons between their constituents in the community and the site. Pursuant to section 315(a) of the NMSA, advisory councils are exempt from the requirements of the Federal Advisory Committee Act. Additional information on ONMS and its advisory councils can be found at https://sanctuaries.noaa.gov.

III. Advisory Council Membership

Under section 315 of the NMSA, advisory council members may be appointed from among: (1) Persons employed by Federal or State agencies with expertise in natural resources management; (2) members of relevant regional fishery management councils; and (3) representatives of local user groups, conservation and other public interest organizations, scientific organizations, educational organizations, or others interested in the protection and multiple use management of sanctuary resources (16 U.S.C. 1455a(b)).

The charter for each advisory council defines the number and type of seats and positions on the council. The advisory council charter for CHNMS identifies the following non-governmental voting seat types: Indigenous Cultural Knowledge; Public-at-Large (San Luis Obispo County, Santa Barbara County); Conservation; Education; Research; Tourism and Recreation; Ports, Harbors, and Maritime Transportation; Offshore Energy and Telecommunications; Commercial Fishing; and Recreational Fishing. Additionally, the charter identifies the following governmental voting seat types: Santa Ynez Band of Chumash Indians; local San Luis Obispo County; and Santa Barbara County representatives; State representative.

Additionally, the council will have non-voting seats for: Bureau of Ocean Energy Management; Bureau of Safety and Environmental Enforcement; NOAA's National Marine Fisheries Service; U.S. Coast Guard; Department of Defense; U.S. Forest Service; California Department of Fish and Wildlife; California Coastal Commission; California State Lands Commission; Central Coast Regional Water Quality Control Board; California State Parks. The council will also have a non-voting Student Leadership seat for students over the age of 18.

To the extent more representation is needed, NOAA intends to work with the advisory council to establish an Indigenous Cultures Advisory Panel as a working group of the advisory council with adequate space for Indigenous community members and others. NOAA would respectfully expect this group to create unique and essential advice and guidance that is informed by knowledge of local Indigenous culture. More information about the working group and its establishment will be available after the advisory council is appointed. NOAA encourages interested individuals to attend advisory council meetings and review the council's website and posted meeting notes to learn more about the planned Indigenous Cultures Advisory Panel. NOAA also encourages interested individuals to apply to the advisory council's Indigenous Cultural Knowledge seats, once applications are made available.

For the CHNMS advisory council, applicants will be chosen based upon their particular expertise and experience in relation to the seat for which they are applying; community and professional affiliations; views regarding the protection and management of marine or Great Lakes resources; and possibly (though not required) the length of residence in the area affected by the site. Council members and alternates for CHNMS serve two and half or three-year terms, as reflected in the signed charter.

More information on advisory council membership and processes, and materials related to the purpose, policies, and operational requirements for advisory councils can be found in the charter for a particular advisory council (https://sanctuaries.noaa.gov/management/ac/council_charters.html) and the National Marine Sanctuary Advisory Council Implementation Handbook (https://nmssanctuaries.blob.core.windows.net/sanctuaries-prod/media/docs/2022-sanctuary-advisory-council-handbook.pdf). For more information about the new advisory council for CHNMS, including seat descriptions and application materials, please visit https://sanctuaries.noaa.gov/chumash-heritage/advisory/.

Privacy Act Statement

Authority. The collection of information concerning the solicitation for applications for sanctuary advisory councils is authorized under the NMSA, 16 U.S.C. 1445a, and Executive Order 13178, and in accordance with the Privacy Act of 1974, as amended, (Privacy Act, 5 U.S.C. 552a).

Purposes. The collection of names, contact information, professional information, qualifications, and answers to the application questions is required in order for ONMS to evaluate and appoint members to the sanctuary advisory councils. The information collected will be reviewed by NOAA employees, and may also be reviewed by current sanctuary advisory council members as part of the evaluation process.

Routine Uses. NOAA will use the application information for the purposes set forth above. The Privacy Act authorizes disclosure of the collected information for the following purposes: to NOAA staff for work-related purposes; for other purposes as set forth in the Privacy Act; and for routine uses published in one or more of the following Privacy Act System of Records Notices, as applicable: COMMERCE/DEPT-11, Candidates for Membership, Members, and Former Members of Department of Commerce Advisory Committees, available at https://www.commerce.gov/opog/privacy/SORN/SORN-DEPT-11; COMMERCE/DEPT-18, Employees Personnel Files Not Covered by Notices of Other Agencies, available at https://www.commerce.gov/opog/privacy/SORN/SORN-DEPT-18; and OPM/GOVT-1, General Personnel Records, available at https://www.opm.gov/information-management/privacy-policy/sorn/opm-sorn-govt-1-general-personnel-records.pdf, which cover certain records regarding Federal employees and may also cover records of individuals who are not Federal employees who, through their service on a sanctuary advisory council, may be considered as volunteers providing gratuitous services to the agency without compensation; and, for individuals who are also members of a Regional Fishery Management Council, COMMERCE/NOAA-13, Personnel, Payroll, Travel, and Attendance Records of the Regional Fishery Management Councils.

Effects of Not Providing Information. Providing the application information is voluntary; however, if the information is not provided, the individual will not be considered for appointment as a member of a sanctuary advisory council.

Consent. By submitting an application to ONMS for appointment to a sanctuary advisory council, you are consenting to the use and disclosure of the information for the purposes and routine uses described above. However, if you prefer that your application be reviewed by NOAA employees only and not disclosed to current council members as part of the evaluation process, please contact the sanctuary advisory council coordinator to request internal review only, which will not result in any disadvantage or impact regarding your candidacy, or for any questions regarding this Privacy Act Statement.

Paperwork Reduction Act

ONMS has a valid Office of Management and Budget (OMB) control number (0648-0397) for the collection of public information related to the processing of ONMS national marine sanctuary advisory council applications across the National Marine Sanctuary System. Establishing a sanctuary advisory council for CHNMS fits within the estimated reporting burden under that control number. See https://www.reginfo.gov/public/do/PRASearch (Enter Control Number 0648-0397). Therefore, ONMS will not request an update to the reporting burden certified for OMB control number 0648-0397.

Send comments regarding this burden estimate, or any other aspect of this data collection, including suggestions for reducing the burden, to: Office of National Marine Sanctuaries, 1305 East West Highway, N/NMS, Silver Spring, Maryland 20910.

Notwithstanding any other provisions of the law, no person is required to respond to, nor shall any person be subject to a penalty for failure to comply with a collection of information subject to the requirements of the Paperwork Reduction Act, 44 U.S.C. 3501 et seq., unless that collection of information displays a currently valid OMB control number. The OMB control number is #0648-0397.

Authority: 16 U.S.C. 1431 et seq.

John Armor,
Director, Office of National Marine Sanctuaries, National Ocean Service, National Oceanic and Atmospheric Administration.

[FR Doc. 2024-30427 Filed 1-6-25; 8:45 am]

BILLING CODE 3510-NK-P